SMALL BUSINESS ADMINISTRATION

Wisconsin District Advisory Council; Public Meeting

The U.S. Small Business Administration, Wisconsin District Advisory Council will be hosting its first meeting to discuss such matters that may be presented by members, and staff of the U.S. Small Business Administration, or others present. The meeting will be held on Thursday, June 16, 2005, starting at 1:30 p.m. The meeting will take place at the U.S. Small Business Administration, Wisconsin District—Milwaukee, 310 West Wisconsin Avenue, Suite 400, Milwaukee, Wisconsin.

Anyone wishing to attend must contact Cindy Merrigan in writing or by fax. Cindy Merrigan, Small Business Administration, 740 Regent Street, Suite 100, Madison, Wisconsin 53715, phone (608) 441-5560, fax (202) 481-0815, e-mail: cindy.merrigan@sba.gov.

Matthew K. Becker,
Committee Management Officer.

[FR Doc. 05-11296 Filed 6-6-05; 8:45 am]

BILLING CODE 8025-01-P